ENVIRONMENTAL PROTECTION AGENCY

[ER-FRL-9016-6]

Environmental Impact Statements; Notice of Availability

Responsible Agency: Office of Federal Activities, General Information (202) 564-7146 or http://www.epa.gov/compliance/nepa/.

Weekly receipt of Environmental Impact Statements

Filed 08/11/2014 Through 08/15/2014

Pursuant to 40 CFR 1506.9.

Notice

Section 309(a) of the Clean Air Act requires that EPA make public its comments on EISs issued by other Federal agencies. EPA's comment letters on EISs are available at: http://www.epa.gov/compliance/nepa/eisdata.html.

EIS No. 20140230, Final EIS, BLM, ID, Jarbidge Proposed Resource Management Plan, Review Period Ends: 09/22/2014, Contact: Heidi Whitlach 208-736-2350.

EIS No. 20140231, Final EIS, USFS, WA, Bailey, Aeneas, Revis, and Tunk Livestock Grazing Analysis, Review Period Ends: 09/22/2014, Contact: Phillip Christy 509-486-5137.

EIS No. 20140232, Draft Supplement, NMFS, FL, Adjustments to the Annual Catch Limit and Accountability Measures for Royal Red Shrimp, Comment Period Ends: 10/06/2014, Contact: Susan Gerhart 727-551-5602.

EIS No. 20140233, Draft EIS, BIA, WA, Samish Indian Nation Trust Acquisition and Casino Project, Comment Period Ends: 10/06/2014, Contact: Dr. B.J. Howerton 503-231-6749.

EIS No. 20140234, Draft Supplement, USN, AK, Gulf of Alaska Navy Training Activities, Comment Period Ends: 10/20/2014, Contact: Amy Burt 360-396-0924.

EIS No. 20140235, Draft EIS, NRC, NJ, PSEG Site, Early Site Permit NUREG-2168, Comment Period Ends: 11/06/2014, Contact: Allen Fetter 301-415-8556.

EIS No. 20140236, Final EIS, USACE, WA, Lower Snake River Programmatic Sediment Management Plan, Review Period Ends: 09/22/2014, Contact: Sandra Shelin 509-527-7265.

EIS No. 20140237, Final Supplement, NOAA, AK, Management of the Subsistence Harvest of Northern Fur Seals on St. George Island, Review Period Ends: 09/22/2014, Contact: Michael Williams 907-271-5117.

EIS No. 20140238, Final EIS, USFS, CO, Vail Mountain Recreation Enhancement Project, Review Period Ends: 09/22/2014, Contact: Roger Poirier 970-945-3245.

EIS No. 20140239, Draft EIS, FTA, CA, Eastside Transit Corridor Phase 2, Comment Period Ends: 10/21/2014, Contact: Mary Nguyen 213-202-3960.

EIS No. 20140240, Draft Supplement, USACE, WA, Mount St. Helens Long-Term Sediment Management Plan, Comment Period Ends: 09/29/2014, Contact: Tina Teed 503-808-4960.

Amended Notices

EIS No. 20140183, Draft EIS, USFS, AZ, Tonto National Forest Travel Management, Comment Period Ends: 09/17/2014, Contact: Marianne Thomas 602-225-5213.

Revision to the FR Notice Published 07/03/2014; Extending Comment Period from 08/18/2014 to 09/17/2014.

Dated: August 19, 2014.
Cliff Rader,
Director, NEPA Compliance Division, Office of Federal Activities.

[FR Doc. 2014-20038 Filed 8-21-14; 8:45 am]

BILLING CODE 6560-50-P